DEPARTMENT OF COMMERCE

National Oceanic and Atmospheric Administration

[I.D. 011405B]

Endangered Species; File No. 1475

AGENCY: National Marine Fisheries Service (NMFS), National Oceanic and Atmospheric Administration (NOAA), Commerce.

ACTION: Receipt of permit application addendum.

SUMMARY: The Florida Fish and Wildlife Conservation Commission (FFWCC), Florida Marine Research Institute (Richard E. Matheson, Principal Investigator), 1481 Market Circle, Unit 1, Port Charlotte, FL 33953, has submitted a request to modify their permit application (File No. 1475). The original application requested authorization to conduct scientific research on smalltooth sawfish (Pristis pectinata).

DATES: Written or telefaxed comments must be received on or before February 25, 2005.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southeast Region, NMFS, 9721 Executive Center Drive North, St. Petersburg, FL 33702-2432; phone (727)570-5301; fax (727)570-5320.

Written comments or requests for a public hearing on this modification should be mailed to the Chief, Permits, Conservation and Education Division, F/PR1, Office of Protected Resources, NMFS, 1315 East-West Highway, Room 13705, Silver Spring, MD 20910. Those individuals requesting a hearing should set forth the specific reasons why a hearing on the particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1475.

FOR FURTHER INFORMATION CONTACT: Jennifer Jefferies or Patrick Opay, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

A notice of receipt of an application from the FFWCC to conduct scientific research on smalltooth sawfish was published on May 21, 2004 (69 FR 29274). The FFWCC sought authorization to sample and track smalltooth sawfish throughout Florida coastal waters. Annually, up to 200 fish were to be captured via seines, hook and line, and gill nets, measured, weighed, PIT and rototagged, tissue sampled, and the fish subsequently released. Additionally, a subset of 50 fish annually were to also receive acoustic transmitters and a subset of 25 fish annually were to also receive satellite transmitters. The permit has not been issued yet but the FFWCC has amended its application to include an annual take of sea turtles. Specifically, the FFWCC is seeking authorization to capture, measure, and release three loggerhead (Caretta caretta), three Kemp's ridley (Lepidochelys kempii), three green (Chelonia mydas), two hawksbill (Eretmochelys imbricata) and two leatherback (Dermochelys coriacea) turtles annually.

Dated: January 18, 2005.
Stephen L. Leathery,
Chief, Permits, Conservation and Education Division, Office of Protected Resources, National Marine Fisheries Service.

[FR Doc. 05-1342 Filed 1-25-05; 8:45 am]

BILLING CODE 3510-22-S